DEPARTMENT OF LABOR

Employment and Training Administration

[TA-W-57,604]

Gilbert Martin Woodworking Company, Inc., d/b/a Martin Furniture, San Diego, CA; Notice of Termination of Investigation

Pursuant to Section 221 of the Trade Act of 1974, as amended, an investigation was initiated on July 22, 2005 in response to a petition filed on behalf of workers of Gilbert Martin Woodworking Company, Inc., d/b/a Martin Furniture, San Diego, California.

The petitioning group of workers is covered by an active certification issued on July 5, 2005 which remains in effect (TA-W-57,387). Consequently, further investigation in this case would serve no purpose, and the investigation has been terminated.

Signed at Washington, DC this 27th day of July, 2005.
Richard Church,
Certifying Officer, Division of Trade Adjustment Assistance.

[FR Doc. E5-4500 Filed 8-17-05; 8:45 am]

BILLING CODE 4510-30-P